DEFENSE NUCLEAR FACILITIES SAFETY BOARD

Senior Executive Service Performance Review Board

AGENCY: Defense Nuclear Facilities Safety Board.

ACTION: Notice of Members of Senior Executive Service Performance Review Board.

SUMMARY: This notice announces the membership of the Defense Nuclear Facilities Safety Board (DNFSB) Senior Executive Service (SES) Performance Review Board (PRB).

DATES: These appointments are effective on November 14, 2024.

ADDRESSES: Send comments concerning this notice to: Defense Nuclear Facilities Safety Board, 625 Indiana Avenue NW, Suite 700, Washington, DC 20004-2001.

FOR FURTHER INFORMATION CONTACT: LeMont Neal by telephone at (202) 826-9667, or by email at LemontN@dnfsb.gov.

SUPPLEMENTARY INFORMATION: 5 U.S.C. 4314(c)(1) through (5) requires each agency to establish, in accordance with regulations prescribed by the Office of Personnel Management, one or more performance review boards. The PRB shall review and evaluate the initial summary rating of the senior executives' performance, the executives' responses, and the higher-level officials' comments on the initial summary rating. In addition, the PRB will recommend executive performance bonuses and pay increases. The DNFSB is a small, independent Federal agency; therefore, the members of the DNFSB SES Performance Review Board listed in this notice are drawn from the SES ranks of other agencies. The following persons comprise a standing roster to serve as members of the Defense Nuclear Facilities Safety Board SES Performance Review Board:

Andrea Kock, Deputy Office Director for Engineering, Office of Nuclear Reactor Regulation, U.S. Nuclear Regulatory Commission.

Delores Thompson, Counsel to the Inspector General U.S. Department of Labor, Office of Inspector General, Office of Legal Services.

Suzann K. Gallagher, Deputy Assistant Inspector General, Investigative Operations Department of Labor, Office of Inspector General.

Authority: 5 U.S.C. 4314.

Dated: October 10, 2024.
Mary J. Buhler,
Executive Director of Operations.

[FR Doc. 2024-24449 Filed 10-21-24; 8:45 am]

BILLING CODE 3670-01-P